DEPARTMENT OF HOMELAND SECURITY

Coast Guard

33 CFR Parts 26, 161, 164, and 165

[USCG-2003-14757]

RIN 1625-AA67

Automatic Identification System; Vessel Carriage Requirement

AGENCY: Coast Guard, DHS.

ACTION: Temporary interim rule with request for comments and notice of meeting.

SUMMARY: The Coast Guard is amending port and waterway regulations to reflect vessel carriage requirements and establish technical and performance standards for an Automatic Identification System (AIS). This interim rule will implement the AIS carriage requirements of the Maritime Transportation Security Act of 2002 (MTSA) and the International Maritime Organization requirements adopted under International Convention for the Safety of Life at Sea, 1974, (SOLAS) as amended. The changes will require AIS on all vessels subject to SOLAS, Vessel Traffic Service Users and certain other commercial vessels. The rule will facilitate vessel-to-vessel and vessel-to-shore communications; it will enhance good order and predictability on the waterways, promote safe navigation; and contribute to maritime domain awareness to protect the security of our nation's ports and waterways.

This rule is one of six interim rules in today's Federal Register addressing the requirements for maritime security mandated by the MTSA. These six interim rules implement national maritime security initiatives concerning general provisions, Area Maritime Security (ports), vessels, facilities, Outer Continental Shelf facilities, and the Automatic Identification System. They align domestic maritime security requirements with those of the International Ship and Port Facility Security Code and recent amendments to SOLAS. This rule will benefit persons and property by requiring that certain vessels carry AIS to increase maritime domain awareness and help detect, and respond to unlawful acts that threaten vessels. To best understand these interim rules, first read the one titled “Implementation of National Maritime Security Initiatives.” (See USCG-2003-14792).

In view of the benefit-cost ratio presented herein, the Coast Guard will share with Congress any significant information provided by the public that addresses the reasonableness of implementing the statute.

DATES: Effective date. This interim rule is effective July 1, 2003. The Coast Guard intends to finalize this rule by November 25, 2003. Material incorporated by reference was approved by the Director of the Federal Register as of July 1, 2003.

Comments. Comments and related material must reach the Docket Management Facility on or before July 31, 2003.

Meeting. A public meeting will be held on July 23, 2003 from 9 a.m. to 5 p.m., in Washington, DC.

ADDRESSES: Comments. To ensure your comments and related material are not entered more than once in the docket, please submit them by only one of the following means:

(1) Electronically to the Docket Management System at http://dms.dot.gov.

(2) By mail to the Docket Management Facility (USCG-2003-14757) at the U.S. Department of Transportation, room PL-401, 400 Seventh Street SW., Washington, DC 20590-0001.

(3) By fax to the Docket Management Facility at 202-493-2251.

(4) By delivery to room PL-401 on the Plaza level of the Nassif Building, 400 Seventh Street SW., Washington, DC between 9 a.m. and 5 p.m., Monday through Friday, except Federal holidays. The telephone number is 202-366-9329.

Meeting. A public meeting will be held on July 23, 2003 in Washington, DC at the Grand Hyatt Washington, DC, 1000 H Street, NW., Washington, DC 20001.

Availability. You may inspect the material incorporated by reference at room 1409, U.S. Coast Guard Headquarters, 2100 Second Street SW., Washington, DC 20593-0001 between 8:30 a.m. and 3:30 p.m., Monday through Friday, except Federal holidays. The telephone number is 202-267-6277. Copies of the material are available as indicated in the “Incorporation by Reference” section of this preamble.

FOR FURTHER INFORMATION CONTACT: If you have questions on this interim rule, contact Mr. Jorge Arroyo, Office of Vessel Traffic Management (G-MWV), Coast Guard by telephone 202-267-1103, toll-free telephone 1-800-842-8740 ext. 7-1103, or electronic mail msregs@comdt.uscg.mil. For questions on viewing or submitting material to the docket, call Ms. Dorothy Beard, Chief, Dockets, Department of Transportation, at 202-366-5149.

SUPPLEMENTARY INFORMATION: Due to the short timeframe given to implement these National Maritime Transportation Security initiatives, as directed by the Maritime Transportation Security Act (MTSA) of 2002 (MTSA, Pub. L. 107-295, 116 STAT. 2064), and to ensure all comments are in the public venue for these important rulemakings, we are not accepting comments containing protected information for these interim rules. We request you submit comments, as explained in the Request for Comments section below, and discuss your concerns or support in a manner that is not security sensitive. We also request that you not submit proprietary information as part of your comment.

The Docket Management Facility maintains the public docket for this rulemaking. Comments and material received from the public, as well as documents mentioned in this preamble as being available in the docket, will be available for inspection or copying at room PL-401 on the Plaza level of the Nassif Building, 400 Seventh Street SW., Washington, DC, between 9 a.m. and 5 p.m., Monday through Friday, except Federal holidays. You may also find this docket on the Internet at http://dms.dot.gov.

Electronic forms of all comments received into any of our dockets can be searched by the name of the individual submitting the comment (or signing the comment, if submitted on behalf of an association, business, labor unit, etc.) and is open to the public without restriction. You may also review the Department of Transportation's complete Privacy Act Statement published in the Federal Register on April 11, 2000 (65 FR 19477-78), or you may visit http://dms.dot.gov/.

Request for Comments

We encourage you to participate in this rulemaking by submitting comments and related material. Your comments will be considered for the final rule we plan to issue before November 25, 2003, to replace this interim rule. If you choose to comment on this rulemaking, please include your name and address, identify the specific docket number for this interim rule (USCG-2003-14757), indicate the specific heading of this document to which each comment applies, and give the reason for each comment. If you have comments on another rule please submit those comments in a separate letter to the docket for that rulemaking. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know that they reached the Facility, please enclose a stamped, self-addressed postcard or envelope. We will consider all comments and material received during the comment period, and we may amend this rule and the final rule that replaces it in view of them.

Note, matters pertaining to AIS licensing, equipment certification, and frequencies are subject to Federal Communications Commission regulations and are not addressed in this rule, see FCC Public Notice DA 02-1362 in the docket for further information.

Public Meeting

We will hold a public meeting on July 23, 2003, in Washington, DC at the Grand Hyatt Hotel, at the address listed under ADDRESSES. The meeting will be from 9 a.m. to 5 p.m. to discuss this Automatic Identification System (AIS) rulemaking in addition to the other five maritime security rulemakings, found elsewhere in today's Federal Register. In addition, you may submit a request for other public meetings to the Docket Management Facility at the address under ADDRESSES explaining why another one would be beneficial. If we determine that other meetings would aid this rulemaking, we will hold them at a time and place announced by a later notice in the Federal Register.

Regulatory Information

We did not publish a notice of proposed rulemaking for this rulemaking and are making this interim rule effective upon publication. Section 102(d)(1) of the Maritime Transportation Security Act of 2002 (MTSA, Public Law 107-295, 116 Stat. 2064) requires the publication of an interim rule as soon as practicable without regard to the provisions of chapter 5 of title 5, U.S. Code (Administrative Procedure Act). The Coast Guard finds that harmonization of U.S. regulations with maritime security measures adopted by the International Maritime Organization (IMO) in December 2002, and the need to institute measures for the protection of U.S. maritime security as soon as practicable, furnish good cause for this interim rule to take effect immediately under both the Administrative Procedure Act and section 808 of the Congressional Review Act.

Recently Enacted Legislation

The provisions set forth in this rulemaking and the associated regulatory assessment take into account: (1) The recently enacted MTSA, which requires an AIS on most commercial vessels on all navigable waters, and (2) the International Convention for the Safety of Life at Sea, 1974, (SOLAS) amendments from the December 2002 International Maritime Organization (IMO) Diplomatic Conference. This rule will amend AIS standards to those adopted by the IMO and SOLAS and defined in the International Telecommunication Union Radiocommunication Bureau (ITU-R) Recommendation ITU-R M.1371-1 and International Electrotechnical Commission (IEC) IEC 61993-2.

The recent SOLAS AIS amendments accelerate the implementation schedule, as discussed below under “Background and Purpose-Acceleration of SOLAS AIS Implementation.” Copies of the MTSA and the SOLAS AIS amendments are available in the docket as indicated under ADDRESSES.

Public Meetings for Rulemakings Related to Vessel Traffic Service

The Coast Guard held a public meeting on October 28, 1998, in New Orleans, Louisiana. The meeting was announced in a notice published in the Federal Register on September 18, 1998 (63 FR 49939). This meeting gave the Coast Guard the opportunity to discuss the Vessel Traffic Service (VTS) concept on the Lower Mississippi River and the envisioned use of automatic identification system technology in the VTS. At this 1998 meeting, we reported the preliminary results of tests conducted on the Lower Mississippi River using precursor AIS. The proposed VTS on the Lower Mississippi River is not discussed in this rulemaking because it is the subject of a separate rulemaking titled “Vessel Traffic Service Lower Mississippi River” (65 FR 24616, April 26, 2000; docket [USCG-1998-4399]). We copied those comments regarding the AIS that were submitted to the VTS Lower Mississippi River docket and have placed those copies in the docket for this interim rule. However, most of those comments are not addressed herein either because they are no longer applicable or because they address a previous version of AIS and not the version required by this interim rule. We encourage all those who commented previously on this rulemaking to comment on the new provisions set forth in this rule. We will address those comments along with all other comments submitted in direct response to this interim rule in the final rule.

Over the past few years, the Coast Guard has made AIS presentations at various public forums including Federal advisory committee meetings (Towing Safety Advisory Committee, National Offshore Safety Advisory Committee, Houston-Galveston Navigation Safety Advisory Committee and Navigation Safety Advisory Council). Moreover, the AIS-based Ports and Waterways Safety System project being installed at the VTS Lower Mississippi River is regularly discussed at the Lower Mississippi River Waterway Safety Advisory Committee meetings.

The Houston-Galveston Navigation Safety Advisory Committee and Lower Mississippi River Waterway Safety Advisory Committee are Federally chartered advisory committees charged with making recommendations to the Coast Guard on matters relating to the safe and efficient transit of vessels on their respective waterways. These open forums have afforded the public, particularly those in the Gulf of Mexico and Mississippi River areas, the opportunity to comment on both VTS Lower Mississippi River and AIS issues. The public's input will be taken into account throughout this rulemaking. Elsewhere in today's Federal Register, we have published a notice requesting comments on AIS carriage for vessels outside VTS and Vessel Movement Reporting System (VMRS) areas that are not on an international voyage (See USCG-2003-14878).

Background and Purpose

Section 5004 of the Oil Pollution Act of 1990, as codified in 33 U.S.C. 2734, directed the Coast Guard to operate additional equipment, as necessary, to provide surveillance of tank vessels transiting Prince William Sound, Alaska. We have done so since 1994 through a system then known as “Automated Dependent Surveillance.” Advances have taken place with this technology, now referred to as the AIS. Section 102 of the MTSA mandates that AIS be installed and operating on most commercial and passenger vessels on all navigable waters of the United States.

The version of AIS required by this interim rule automatically broadcasts vessel and voyage-related information that is received by other AIS-equipped ships and shore stations. In the ship-to-shore mode, AIS enhances maritime domain awareness and allows for the efficient exchange of vessel traffic information that previously was only available via voice communications with a VTS. In ship-to-ship mode, an AIS provides essential information to other vessels, such as name, position, course, and speed that is not otherwise readily available onboard vessels. In either mode, an AIS enhances the mariner's situational awareness, makes possible the accurate exchange of navigational information, mitigates collision through reliable passing arrangements, and facilitates vessel traffic management, while simultaneously reducing very high frequency voice transmissions.

AISs have achieved acceptance through worldwide adoption of performance and technical standards developed to ensure commonality, universality, and inter-operability. These recommendations have now been established and adopted as standards by the following diverse international bodies: the IMO, the International Telecommunications Union (ITU), and the International Electrotechnical Commission (IEC). Further, installation of such equipment is required on vessels subject to SOLAS, as amended.

Applicability and Compliance Dates

This interim rule requires the following vessels to install and operate AIS:

• Vessels on international voyages subject to SOLAS under the schedule set forth in SOLAS chapter V, regulation 19.2.4;

• Vessels of 65 feet or more in length, not subject to SOLAS or transiting a VTS area, in commercial service on international voyages by December 31, 2004; and

• The following VTS or VMRS users:

• Self-propelled vessels of 65 feet or more in length, in commercial service;

• Towing vessel 26 feet or more in length and more than 600 horsepower;

• Vessels of 100 gross tons or more carrying one or more passengers for hire; and

• Passenger vessels certificated to carry 50 or more passengers for hire.

The VTS and VMRS users must comply by: December 31, 2003, within VTS St. Marys River; by July 1, 2004, within VTS Berwick Bay, VMRS Los Angeles/Long Beach, VTS Lower Mississippi River, VTS Port Arthur and VTS Prince William Sound; by December 31, 2004, within VTS Houston-Galveston, VTS New York, VTS Puget Sound, and VTS San Francisco.

Note that the compliance dates set forth in SOLAS differ from those enacted in the MTSA. In this rule, where the dates differ, we have sided with the internationally agreed upon dates of SOLAS, particularly regarding tankers built before July 1, 2002, where the compliance date is the first survey of these vessels for safety equipment on or after July 1, 2003, which could extend compliance to July 1, 2004 (one year later than the MTSA).

However, we accelerated AIS implementation from the revised SOLAS schedule to meet other international obligations. As of March 25, 2003, the Saint Lawrence Seaway Development Corporation, under an international agreement with the St. Lawrence Seaway Management Corporation of Canada, has required AIS on vessels transiting St. Lawrence Seaway waters from St. Lambert, Quebec to Long Point, in mid-Lake Erie. (68 FR 9549, February 28, 2003). We anticipate VTS St. Marys River will be AIS-capable by December 31, 2003, and at that time we will require all VTS users, including SOLAS vessels, transiting the Seaway and the VTS to continue AIS operation through their entire transit.

This acceleration also follows our plan to require AIS use in areas where we will have an infrastructure to fully monitor and manage the AIS data link and ensure accurate maritime domain awareness. That is why we have, initially, decided to implement AIS predominately in VTS and VMRS areas as they become equipped with AIS capability.

The MTSA calls for AIS use in all navigable waters, but allows this requirement to be waived if the Secretary finds that an AIS is not needed for safe navigation on specified navigable waters. The Coast Guard intends to carry out this mandate completely; however, at this early stage of AIS deployment, the Coast Guard deems it important to fully require an AIS, particularly in congested waters, where it has the capability to manage the AIS VHF data link. An AIS permits shore-side base stations to perform various functions to manage the AIS data link, such as changing operating frequencies, power outputs, and reporting rates, should the network require it. This action may be necessary to ensure safe navigation. The Coast Guard anticipates having these facilities in most of our major waterways; however, until then it intends to proceed on a rollout plan by waterway. In a notice and request for comments published elsewhere in today's Federal Register, the Coast Guard is seeking comments on expansion of AIS implementation to vessels not on international voyages outside VTS and VMRS areas.

Acceleration of SOLAS AIS Implementation

The December 2000 Amendments to SOLAS provided for a phased-in AIS carriage schedule under chapter V, regulation 19.2.4 that started July 1, 2002, and extended to July 1, 2008, depending on ship type and tonnage. After September 11, 2001, and in an effort to improve safety, security and maritime domain awareness worldwide, the United States initiated action through IMO to accelerate this implementation schedule.

In November 2001, the IMO Assembly, on the recommendation of the United States and numerous other nations, adopted resolution A.924(22) with the goals of enhancing maritime security. This resolution instructed the Organization to develop appropriate measures to improve maritime security. Based upon a recommendation by the United States, the Assembly also agreed to convene an international conference in December 2002 to formally adopt whatever measures were developed.

In February 2002, an Intersessional Working Group of the IMO Maritime Safety Committee (MSC) met and recommended that the AIS carriage timeline be accelerated, in addition to several other security-related initiatives, which are discussed in separate interim rules published elsewhere in today's Federal Register.

In May 2002, the Maritime Safety Committee met and accepted amendments to SOLAS related to the accelerated AIS implementation (including several phase-in options), for consideration at a December 2002 Diplomatic Conference. The Diplomatic Conference convened in December 2002 and adopted the phased-in AIS carriage schedule as described in Table 1 below.

Table 1.—SOLAS AIS Schedule (Chapter V, Regulation 19.2.4) for Vessels on International Voyages
Constructed | Type of vessel | Implementation date
On or after July 1, 2002 | All | July 1, 2002.
Before July 1, 2002 | Passenger ships (carrying 12 or more passengers) | July 1, 2003.
| Tankers | First survey for safety equipment on or after July 1, 2003
| Ships, other than passenger ships and tankers, greater than or equal to 50,000 gross tonnage | July 1, 2004.
| Ships, other than passenger ships and tankers, greater than or equal to 300, but less than 50,000 gross tonnage | First safety equipment survey after July 1, 2004, or by December 31, 2004, whichever occurs earlier.

This interim rule implements this revised SOLAS schedule, as it concerns vessels on international voyage, and through a separate notice titled “Automatic Identification System; Expansion of Carriage Requirements for U.S. Waters” [USCG-2003-14878], published elsewhere in today's Federal Register, we seek comments regarding vessels solely engaged in domestic voyages and not transiting a VMRS.

The Coast Guard received some unfavorable comments regarding AIS carriage (see USCG-1998-4399-3 at http://dms.dot.gov) in the VTS Lower Mississippi River rulemaking docket (USCG-1998-4399). There were also AIS comments made during the Public Meetings on Maritime Security, discussed in the preamble to the interim rule titled “Implementation of National Maritime Security Initiatives,” published elsewhere in today's Federal Register. The Coast Guard is of the strong opinion that an AIS should be installed not only on SOLAS vessels, but also on most commercial vessels as soon as possible, particularly in vessel traffic monitoring areas, such as VTS and VMRS areas. Thus, the Coast Guard is requiring AIS carriage for non-SOLAS vessels while navigating these areas. There is a general discussion of comments on AIS carriage included in the preamble for the interim rule titled “Implementation of National Maritime Security Initiatives,” published elsewhere in today's Federal Register.

Automatic Identification System (AIS)

The AIS integrates a number of technologies to enhance the safe and efficient navigation of ships, protection of the environment, operation of VTS, and maritime domain awareness. AIS does this by providing ship-to-ship information for collision avoidance, and ship-to-shore information about a ship and its cargo for traffic management and increased maritime awareness. Included in these technologies are Global Navigation Satellite System, frequency agile digital very high frequency transceivers, self-organizing communications protocols, and an architecture that allows input from and output to other shipborne navigational equipment (for example, input from rate of turn indicator and heading sensor; output to radar or electronic chart display systems). Data from these technologies can be tailored to the mariner's needs and desires. The automated operation of the AIS and the reduction of voice interactions should enhance mariners' ability to navigate. More than 5 million voice reports a year will be eliminated in existing VTS areas alone by using AIS.

The AIS transmits and receives vessel information in near real-time from other ships and rebroadcasts from shore stations, such as—

(1) Static Information—Vessel call sign, name, IMO identification number, dimensions, type;

(2) Voyage-Related Information—Draft, cargo type, destination, and estimated time of arrival; and

(3) Dynamic Information—Time in Universal Time Coordinated, latitude/longitude position, course over ground, speed over ground, heading, rate of turn, navigational status.

The AIS provides mariners with accurate navigation information. In addition, shore stations will be able to relay pertinent navigational data from other sources, such as the National Oceanic and Atmospheric Administration's Physical Oceanographic Real Time System. An AIS enhances the mariner's situational awareness, permits more effective and reliable passing arrangements as intended by the Vessel Bridge-to-Bridge Radiotelephone Act (33 U.S.C. 1201-1208) and the Inland Navigational Rules (33 U.S.C. 2001-2038), and provides the Coast Guard with a comprehensive and informative traffic image not possible with radar or video surveillance.

AIS Testing

AIS tests and trials have been conducted by national maritime safety administrations in a number of locations around the world including Germany, Sweden, Finland, Singapore, South Korea, British Columbia, the Panama Canal, the St. Lawrence Seaway, the Baltic Sea, South Africa, and the Rhine River. The Coast Guard has conducted numerous tests and simulations to identify various technical and operational issues, such as the shoreside communications infrastructure required to support full duplex operations; unit reliability, development of operational procedures appropriate to an AIS-based VTS; and identification of user requirements for graphical display functionality.

In August 1998, the Coast Guard leased 50 early-generation (Digital Selective Calling (DSC) ITU-R M.825-3 version) transponders that were evaluated aboard a variety of platforms. The principal purpose of this testing was to evaluate the performance of a DSC-based system and identify any operational and technical problems that would have to be resolved before implementation of the latest AIS technology (ITU-R M. 1371-1 version).

Existing AIS-Like Systems

This is not the first experience with AISs for the Coast Guard and the maritime industry. Since July 1994, tankers operating in the Prince William Sound area have carried DSC transponders that report to the VTS.

The DSC transponder system used in Prince William Sound is a one-way system of limited capability, flexibility and potential. The VTS at Prince William Sound remains dependent on radar and very high frequency voice radio communications and is, in essence, a traditional VTS augmented by a DSC system. Despite the reduced capability of this type of transponder, it has proven valuable and has demonstrated its potential as the foremost VTS surveillance sensor.

The key difference between the DSC-based identification system used in VTS Prince William Sound and the one required by this interim rule is that the former only provides ship-to-shore (VTS) transmissions of position data. The AIS technology being required ensures two-way communication, radio frequency agility, greater capacity, non-proprietary display interface standards, and a host of display possibilities, including Electronic Chart Display Information System, Automatic Radar Plotting Aid (ARPA), non-ARPA radar, Electronic Chart System, Integrated Navigation System, or other proprietary graphical user interfaces. See Technical Comparison Table 2.

Table 2.—Technical Comparison of ITU-R M.825 Versus ITU-R M.1371-1 Based AIS.
System characteristics | Digital selective calling radio transponder | Broadcast automatic identification system
Technical Standards | ITU-R M.825-3/IEC 61993-1 | ITU-R M.1371-1/IEC 61993-2.
Intended Use | Ship-to-shore | Ship-to-ship; ship-to-shore; shore-to-ship.
Message Schedule | Shore synchronized | Coordinated and Synchronized. Self-organizing timeslot procedure.
Frequency Agility | Full very high frequency spectrum availability | DSC reception locked to very high frequency Ch. 70 only. DSC broadcasts and TDMA reception and broadcasts have full very high frequency spectrum availability.
Radio Channels | One DSC (Simplex or Duplex) | One DSC (Simplex). Two TDMA (Simplex or Duplex).
Permissive Channel Usage (loading) | No more than 15% on Channel 70. Up to 100% on dedicated channel | No more than 7.5% on Channel 70. In excess of 100% on two dedicated channels (AIS1/AIS2).
Effective Data Rate | 600 bits/second | Reception: 19,200 bits/second. Broadcast: 9,600 bits/second.
System Capacity | 9 polled messages/minute Ch. 70-60 polled message/minute not Ch 70-240 with special shore station control and synchronization using duplex repeater | TDMA: 4500 messages/minute plus. DSC: 4 to 9 polled messages/minute.

The Need for Standardization

As evidenced by the number of navigation systems currently in use, there is great interest in using technology to improve navigational safety and maritime domain awareness. However, to correctly add beneficial traffic information while also meeting the user demand to avoid a multiplicity of incompatible systems, standardization was needed. Without standardization, an AIS could not operate effectively or achieve its maximum potential.

Failure to adopt international standards would create a proliferation of disparate units, with no guarantee that devices offered by various manufacturers would be interoperable. In fact, the DSC installation discussed in the Existing AIS-Like Systems section was based on a standard communication protocol. However, it relies upon proprietary software for data management and display. The Coast Guard has been a leader in the drafting or adoption of technical standards through its participation at IMO, ITU, and other international working groups, including groups within the IEC; our goal being the universal inter-operability of AIS.

The key differences between previous technologies and AISs are that the latter allows for reliable Self-Organizing Time-Division Multiple Access, two-way communication, radio frequency agility, greater capacity, and a host of display possibilities. For these reasons, implementing international standards for AIS was a high priority for the Coast Guard.

Ports and Waterways Safety System

Recognizing the need to take advantage of this technology, the Coast Guard has embarked in a major capitalization effort to upgrade all existing and future VTSs with AIS capability.

The Ports and Waterways Safety System is an effort to establish a national transportation system that collects, processes, and disseminates information on the marine operating environment and maritime vessel traffic in major U.S. ports and waterways.

The VTS mission is to monitor and assess vessel movements, exchange information regarding vessel movements with other vessels and shore-based personnel, and provide advisories to vessel Masters. The AIS coverage capability and precision compared to other surveillance technology (i.e., radar and closed circuit television (CCTV)), makes it the sensor of choice for all future VTS operations.

A major goal of the Ports and Waterways Safety System is to apply AIS and other technologies that enable information gathering and dissemination in ways that do not create an additional operational burden for the mariner. An AIS-based VTS will augment the mariner's navigational capability through automatic and effortless broadcast of vessel traffic data, navigational advisories, and safety alerts. Through AIS-based VTS technology and this rulemaking, we can maximize the benefits of our vessel traffic management mission, provide the same or more services, and enhance navigation.

Each VTS has a Vessel Traffic Center (VTC) that will receive vessel movement data from an AIS in addition to radar and CCTV, if so equipped. An AIS-based VTS reduces the need for voice interactions, expands situational awareness, and augments the VTS role to assist mariners in the performance of their duties, thus mitigating the risk of collisions.

We have started this upgrade process and expect to complete it for the following VTS ports by 2005: Berwick Bay, LA; Houston-Galveston, TX; Port Arthur, TX; New Orleans, LA; New York, NY; San Francisco, CA; Prince William Sound, AK; Puget Sound, WA; and St. Marys River, MI. As these VTSs become AIS-capable, per the schedule established today in 33 CFR 164.46, the Coast Guard will eliminate VTS Users voice position reports and rely upon AIS broadcasting. We will require all VTS Users within a VTS to use an AIS.

Given the reduced infrastructure needs of an AIS and associated cost and operational efficiency, the Coast Guard intends to expand AIS surveillance to other VMRS areas, such as the approaches to Los Angeles and Long Beach Harbors, which is jointly operated by the Coast Guard and the Southern California Marine Exchange (under the California Code of Regulations, 14 CCR 852.20 through 852.30). Other VMRS areas are envisioned and would be the subject of future rulemakings. However, the Coast Guard in this interim rule defines VMRS centers, areas, and users to distinguish them from VTS centers, areas, and users. This will allow the Coast Guard to have monitoring capabilities in areas that may not warrant the full interactivity of a VTS (that is, informational, navigation assistance and active traffic organization services), but that do warrant the Captain of the Port's (COTP's) vigilance and greater situational awareness. It would also provide the COTPs a more effective means to carry out their duties and communicate with vessels reporting from within a vessel monitoring system area, and thus enhance their maritime domain awareness.

Involvement of the Maritime Community

We have long recognized that use of AIS on the nation's navigable waters is a valuable asset to all mariners. In the past, many in the maritime community have noted that to have a successful VTS, the Coast Guard must strive to meet the needs of the users while imposing minimal burden, especially in terms of voice communications.

In 1997, the Coast Guard benefited from a national dialog conducted by the Marine Board of the National Academies and its Committee on Maritime Advanced Information Systems and ad hoc VTS committee formed under the auspices of the Lower Mississippi River Waterway Safety Advisory Committee. This ad hoc committee, which was made up of representatives from the maritime community, port community, government, and the public, was asked to define user requirements for VTS that would accomplish the joint overall goals of safety and efficiency. The result of this effort was a conceptual baseline VTS plan. (See USCG-1998-4399-3 at http://dms.dot.gov). One key finding of that plan was the need to implement AIS technology, and to incorporate AIS as a key component of future VTS implementation. The Coast Guard views AIS implementation not only as a key component of VTS, but also as a valuable awareness tool that should be made available and required in all the nation's seas and waterways.

The Coast Guard also recognizes that wider implementation of a surveillance capability is imperative to maritime domain awareness and homeland security. Thus, it is moving forward with AIS capability as a component of our nation's marine distress system network-Rescue 21. Therefore, the Coast Guard wishes to avail itself of this opportunity to seek comments, via the Notice accompanying this interim rule published elsewhere in today's Federal Register, regarding expanding AIS carriage requirements beyond those vessels and areas required in this interim rule.

Discussion of Interim Rule

This interim rule amends Vessel Bridge-to-Bridge Radiotelephone Regulations in 33 CFR part 26, Vessel Traffic Management regulations in part 161, Navigation Safety Regulations, in part 164, and the Prince William Sound, Alaska regulated navigation area regulations in 33 CFR 165.1704. We are making the following changes to existing regulations.

Amendments to Part 26

We are deleting Table 26.03(f) and directing the reader to newly designated Table 161.12(c) for the same information.

Amendments to Part 161

We are adding two definitions in § 161.2—”navigable waters” and “Vessel Movement Center”; and revising definitions for “Vessel Movement Reporting System”; and “Vessel Movement Reporting System User” to distinguish them from “Vessel Traffic Service”, “Vessel Traffic Centers”, and “Vessel Traffic Service Users”. Vessels within a VTS receive a host of services (e.g., weather and navigation advisories, reports of aids to navigation outages, and projected traffic encounters) that will not necessarily be available from a VMRS whose primary mission is to enhance Coast Guard maritime domain awareness and homeland security.

We are amending the Table 161.12(b), and redesignating it as Table 161.12(c) to reflect existing VTS and VMRS areas and their call signs, designated frequencies, and clarifying Notes.

We are revising § 161.21 to establish a mandatory reporting and broadcast requirement via AIS in denoted VMRS areas. The current regulation has a voice reporting exemption for those vessels carrying AISSE in VTS areas capable of receiving such reports, such as VTS Prince William Sound (where the AISSE requirement will remain in effect until July 1, 2004).

We are deleting the Sailing Plan Deviation Report in § 161.21, but we are still requiring this information in the general reporting requirements in § 161.18.

Throughout subpart B, we are adding “VMRS” after “VTS” to show that the provisions of this subpart can apply to either a VTS and or a VMRS.

Amendments to Part 164

We are adding a paragraph to § 164.01 to note that § 164.46 applies to some vessels less than 1600 gross tons, and we are revising § 164.01(c) to add § 164.46 to the list of sections not applicable to U.S. public vessels.

We are revising § 164.02 to reflect that the AIS requirement in part 164 applies to vessels subject to SOLAS Chapter V, Regulation 19.2.4.

We are amending § 164.03, the “Incorporation by Reference” section, by adding the IMO's MSC AIS performance standard (MSC.74(69)), the ITU AIS technical standard (ITU-R M.1371-1), the IMO AIS shipborne installation guidelines (SN/Circ.277), the SOLAS 2000 Amendments and SOLAS 2002 Amendments (Conference resolution 1), and the IEC AIS certification and testing standard (IEC 61993-2).

We are renaming § 164.43 as “Automatic Identification System Shipborne Equipment—Prince William Sound,” and embedded an expiration date. We are adding new § 164.46 “Automatic Identification System (AIS)” to address applicability, operation, placement, and use of AIS units. In addition, we are extending AIS applicability to all vessels subject to SOLAS; to commercial vessels 65 feet or more in length not subject to SOLAS on an international voyage; and to other commercial vessels required to participate in a VTS or VMRS (these vessels are all passenger vessels certificated to have 50 or more passengers on board and every vessel subject to Vessel Bridge-to-Bridge Radiotelephone Act).

Given the similarities between vessel bridge-to-bridge radiotelephone and AIS, the usage, maintenance, and language requirements in 33 CFR 26.04(a) and (c), 26.05, 26.06, and 26.07 for Vessel Bridge-to-Bridge Radiotelephones, will also apply to AIS. We are also clarifying that proper maintenance includes accurate and timely, data entry and transmission. For vessels over 1600 gross tons, we are requiring the AIS Pilot Plug be readily available, placed at the conning position, and near an AC power outlet.

The use of portable AIS units on vessels will be permissible only if such use does not interfere with other installed navigation and communications systems, and, such that only one unit be in operation at a time.

Amendments to Part 165

In § 165.1704, we are amending the AISSE carriage requirement for tankers in Prince William Sound, so that it expires, and thus reverts to the AIS requirement, on July 1, 2004.

Incorporation by Reference

The Director of the Federal Register has approved the material in § 164.03 for incorporation by reference under 5 U.S.C. 552 and 1 CFR part 51. You may inspect this material at U.S. Coast Guard Headquarters where indicated under ADDRESSES. Copies of the material are available from the sources listed in § 164.03.

Regulatory Assessment

This interim rule is not economically significant, however, it is a “significant regulatory action” under Executive Order 12866, and has been reviewed by the Office of Management and Budget (OMB). It is also significant under the regulatory policies and procedures of the Department of Homeland Security due to significant public interest. A more detailed Regulatory Assessment is available in the docket as indicated under ADDRESSES. A summary of the assessment follows.

Cost Assessment

The interim rule is requiring the carriage of an AIS on all U.S. flag SOLAS vessels, certain domestic vessels in VTS areas, and foreign flag vessels less than 300 gross tonnage that make ports of call in the United States. We estimate that 438 U.S. flag SOLAS vessels, 4,121 non-SOLAS domestic vessels, and 70 non-SOLAS foreign vessels will be affected by the interim rule. These include the following:

(1) Vessels subject to SOLAS;

(2) All commercial, self-powered vessels of 65 feet or more in length in VTS areas, including fishing vessels;

(3) Most passenger vessels in VTS areas;

(4) All dredges and floating plants engaged in operations in VTS areas;

(5) Certain commercial towing vessels of 26 feet or more in length in VTS areas; and

(6) Non-SOLAS foreign flag vessels that are 65 feet or more in length that make port calls at any U.S. port.

The estimated cost of complying with the interim rule for domestic vessels is Present Value (PV) $66 million (2003-2012, 7 percent discount rate). Approximately PV $5 million of this total is attributable to U.S. flag SOLAS vessels. The remaining PV $61 million is attributable to domestic vessels (non-SOLAS) that are affected. In the first year of compliance, the cost of purchasing and installing equipment and training personnel is an estimated $40 million (non-discounted, $2 million for the U.S. flag SOLAS fleet, $38 million for the domestic fleet). Following initial implementation, the annual cost of compliance is an estimated $1 million (non-discounted, $0.1 million for the U.S. flag SOLAS fleet, $0.9 million for the domestic fleet).

Non-SOLAS foreign flag vessel costs attributed to this rule are not included in the domestic cost calculations but are still considered here. The PV cost for these vessels to comply with the interim rule is estimated at $1 million over the 10-year period. The initial cost of purchasing and installing equipment and training personnel is an estimated $0.6 million (non-discounted). Following the initial implementation, the annual cost of compliance is less than $0.1 million (non-discounted).

Safety Benefits

The Coast Guard expects both quantifiable and non-quantifiable benefits as a result of the interim rule. Quantified benefits include avoided property damage, injuries, fatalities, and pollution events as a result of having an AIS. Other benefits include better situational awareness, better information, and better communications. The interim rule will also enhance Coast Guard missions such as marine safety and security, aids to navigation, and maritime mobility.

In order to quantify the benefits of AIS implementation, the Coast Guard reviewed thousands of Marine Casualty Incident Reports (MCIRs) from 1993-1999 that involved the vessel populations affected by this interim rule. These incidents were used to develop a historical rate of marine casualties in VTS areas to determine the effectiveness of AIS as a mitigating factor. The estimated safety benefit of the interim rule is PV $25 million (2003-2012, 7 percent discount rate). Approximately PV $13 million is attributable to U.S. flag SOLAS vessels. The remaining PV $12 million is attributable to domestic vessels (non-SOLAS). The estimated average annual benefit is $5 million (non-discounted).

The costs of this interim rule are presented for a 10-year period. The Regulatory Assessment available in the public docket for this rulemaking extends the assessment to a 15-year period.

Security Benefits

This interim rule is one of six interim rules that implement national maritime security initiatives concerning general provisions, Area Maritime Security (ports), vessels, facilities, Outer Continental Shelf (OCS) facilities, and AIS. The Coast Guard used the National Risk Assessment Tool (N-RAT) to assess benefits that would result from increased security for vessels, facilities, OCS facilities, and ports. The N-RAT considers threat, vulnerability, and consequences for a host of maritime entities in various security-related scenarios. For a more detailed discussion on the N-RAT and how we employed this tool, refer to “Applicability of National Maritime Security Initiatives” in the interim rule titled “Implementation of National Maritime Security Initiatives” (USCG-2003-14792) published elsewhere in today's Federal Register. For this benefit assessment, the Coast Guard used a team of experts to calculate a risk score for each entity and scenario before and after the implementation of required security measures. The difference in before and after scores indicates the benefit of the proposed action.

We recognize that the interim rules are a “family” of rules that will reinforce and support one another in their implementation. We have ensured, however, that risk reduction that is credited in one rulemaking is not also credited in another. For a more detailed discussion on the benefit assessment and how we addressed the potential to double-count the risk reduced, refer to “Benefit Assessment” in the interim rule titled “Implementation of National Maritime Security Initiatives” (USCG-2003-14792) published elsewhere in today's Federal Register.

We determined annual risk points reduced for each of the six interim rules using the N-RAT. The benefits are apportioned among the Vessel, Facility, OCS Facility, AMS, and AIS requirements. As shown in Table 3, the implementation of AIS for the affected population reduces 1,553 risk points annually through 2012. The benefits attributable for part 101—General Provisions—were not considered separately since it is an overarching section for all the parts.

Table 3.—Annual Risk Points Reduced by the Interim Rules
Maritime entity | Annual Risk Points Reduced by Rulemaking: Vessel security plans | Annual Risk Points Reduced by Rulemaking: Facility security plans | Annual Risk Points Reduced by Rulemaking: OCS facility security plans | Annual Risk Points Reduced by Rulemaking: AMS plans | Annual Risk Points Reduced by Rulemaking: AIS
Vessels | 778,633 | 3,385 | 3,385 | 3,385 | 1,448
Facilities | 2,025 | 469,686 |  | 2,025 |
OCS Facilities | 41 |  | 9,903 |  |
Port Areas | 587 | 587 |  | 129,792 | 105
Total | 781,285 | 473,659 | 13,288 | 135,202 | 1,553

Once we determined the annual risk points reduced, we discounted these estimates to their present value (7 percent discount rate, 2003-2012) so that they could be compared to the costs. We presented cost effectiveness, or dollars per risk point reduced, in two ways: first, we compared the first-year cost and first-year benefit because first-year cost is the highest in our assessment as companies develop security plans and purchase equipment. Second, we compared the 10-year PV cost and the 10-year PV benefit. The results of our assessment are presented in Table 4.

Table 4. First-Year and 10-Year PV Cost and Benefit of the Interim Rules.
Item | Interim Rule: Vessel security plans | Interim Rule: Facility security plans | Interim Rule: OCS facility security plans | Interim Rule: AMS plans | Interim Rule: AIS¹
First-year cost (millions) | $218 | $1,125 | $3 | $120 | $41
First-year benefit | 781,285 | 473,659 | 13,288 | 135,202 | 1,553
First-year cost effectiveness ($/risk point reduced) | 279 | 2,375 | 205 | 890 | 26,391
10-year PV cost (millions) | 1,368 | 5,399 | 37 | 477 | 42
10-year PV benefit | 5,871,540 | 3,559,655 | 99,863 | 1,016,074 | 11,671
10-year PV cost effectiveness ($/risk point reduced) | 233 | 1,517 | 368 | 469 | 3,624
¹ Cost less monetized safety benefit.

Although we have quantified these security benefits relative to AIS, the N-RAT is limited in its ability to measure benefits attributable to intelligence or information gathering. These limitations are discussed in the Assessment Limitations section in the preamble of the interim rule titled “Implementation of National Maritime Security Initiatives” (USCG-2003-14792) published elsewhere in today's Federal Register.

Congress mandated an AIS carriage requirement on domestic (non-SOLAS) vessels in 46 U.S.C. 70114, and provided an explicit phase-in schedule for AIS in section 102(e) of the MTSA. Strictly upon consideration of monetized safety benefits, as measured through decreased collisions and the resulting decrease in injuries, mortalities, and pollution incidents, the cost of AIS installation for the domestic fleet far outweighs the benefit over a 15-year period (0.26 benefit-cost ratio). This ratio results from the high costs of purchasing and installing the unit (an estimated $9,330 per vessel), and the types of marine casualties that AIS is expected to mitigate, where damage is not usually severe nor is there significant loss of life. In view of the benefit-cost ratio presented above, the Coast Guard will share with the Congress any significant information provided by the public that addresses the reasonableness of implementing the statute.

Because there is not yet a mass market for AIS, the cost per unit in the next few years, when the domestic fleet is required to purchase AIS, is likely to be higher than when it is replaced (around 2012). Because the AIS market is in its infancy, we cannot estimate how much the unit cost will decrease over the next decade. If many manufactures enter the market, costs are likely to drop through competition. Because manufacturers have a potential world market and a significant U.S. market, many may attempt to capture a segment. Conversely, if only a few players emerge worldwide, AIS costs could remain high. Because manufacturers must engage in a rigorous approval process and cannot be assured that they will recoup research and development costs through unit sales, there is the potential that only a few dominant players will emerge in the AIS market. Because we cannot determine the trend of the AIS market, and we did not want to understate the cost for AIS, we assumed that the cost for units in 2012 would again be approximately $9,000 per unit. It is possible that an AIS unit will not be this expensive to replace.

In terms of security, we estimated that we will not experience a significant benefit from a decrease in risk, as measured in risk points reduced in the N-RAT, as a result of AIS installation. There are two primary reasons for this estimate. First, the N-RAT was an internal Coast Guard tool that was modified to estimate the national benefits attributable to the suite of security rulemakings mandated by the MTSA. The tool was not designed to measure the security benefits of AIS specifically. The N-RAT does not, therefore, robustly capture the risk mitigation potential of AIS. Secondly, the Coast Guard strongly believes that AIS is critical to maritime domain awareness. We are unable to quantify or monetize the benefits of this Coast Guard mission or the individual contribution of AIS.

While the monetized benefit of the rule does not exceed its cost, the Coast Guard believes that AIS has the potential to mitigate a Transportation Security Incident (TSI) as described in the MTSA. The Coast Guard recognizes that a single sensor, such as AIS, will not likely prevent a TSI alone—but if AIS can have a mitigating effect on just a single TSI, the security benefit could be significant. The Coast Guard must consider AIS in its suite of security rulemakings and has developed an interim rulemaking that considers the mandates of the MTSA in light of the high initial costs of purchasing the unit, by requiring AIS in VTS areas only for the domestic fleet. We are concentrating our efforts in VTS areas, since this is where we can begin accruing the most benefit—for industry, the public, and the Coast Guard—in the shortest period of time. Through our interim rulemaking, we are attempting to maximize the return to our investment as quickly as practical.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general notice of proposed rulemaking and, therefore, is exempt from the requirements of the Regulatory Flexibility Act. Although this rule is exempt, we have reviewed it for potential economic impacts on small entities. An Initial Regulatory Flexibility Analysis discussing the impact of this rule on small entities is available in the docket where indicated under ADDRESSES.

Number and Types of Small Entities Affected

U.S. Flag SOLAS Vessels

Of the affected population, we estimate that 205 U.S. flag SOLAS vessels, of 438 total, are owned by 122 small businesses. Approximately 40 large companies own the remaining 233 U.S. flag SOLAS vessels.

We estimate the cost of an AIS per vessel in the first year will be $9,330. Of this, $7,000 is for the AIS unit, $2,000 is for installation, and $330 is for mariner training. We estimate that following installation, each AIS will require $250 in annual maintenance to replace such items as the antenna, keyboard, and display screen. The entire unit will be replaced after 8 years.

We found that annual maintenance costs will have a less-than-1-percent impact on annual revenue for all small businesses with U.S. flag SOLAS vessels. First-year impacts to small businesses, therefore, are the focus of this assessment. To estimate the revenue impact on small businesses in the first year, the cost per vessel for an AIS, $9,330, is multiplied by the number of vessels owned by each company, then divided by the average annual revenue for each company, as reported in the online databases noted above. Of the 122 small businesses that own U.S. flag SOLAS vessels, we found revenue for 59 of them (48 percent). If we could not find revenue data for a business, we assumed the business was small. For the remaining 63 small entities without revenue data, we expanded the revenue impacts from the known 59 companies. For example, if 73 percent of 59 small entities (43 entities) had a 0-3 percent impact on their average annual revenues, then 73 percent of 63 small entities (47 entities) had a 0-3 percent impact, for a total of 90 small entities with an annual revenue impact of 0-3 percent. Table 5 presents the revenue impact for the 59 entities with known average annual revenue and the expanded results for the 63 entities without revenue information.

Table 5.—Effect of First-Year Cost on Average Annual Revenue for Small Entities Owning U.S. Flag SOLAS Vessels
Percent of annual revenue that is first-year AIS cost | Number of entities with known annual revenues | Percent of entities with known annual revenues | Expanded number of entities with unknown annual revenues | Total small entities per impact category
0-3% | 43 | 73 | 47 | 90
> 3-5% | 5 | 8 | 5 | 10
> 5-10% | 4 | 7 | 4 | 8
> 10-20% | 6 | 10 | 6 | 12
> 20-30% | 0 | 0 | 0 | 0
> 30% | 1 | 2 | 1 | 2
Total | 59 | 100 | 63 | 122
Detail may not calculate to total due to independent rounding.

Number and Types of Small Entities Affected: Non-SOLAS Fleet in VTS Areas

We estimate that there are 1,491 small businesses that will be affected by the interim rule that own non-SOLAS vessels that transit VTS areas. These 1,491 companies own 2,360 vessels, representing 57 percent of the 4,121 non-SOLAS vessels affected by the rule. An estimated 1,456 vessels (35 percent) are owned by 150 large businesses, and 55 vessels (1 percent) are owned by State and local governments. We have 248 vessels that transit VTS areas (7 percent of the non-SOLAS fleet) that have no company associated with the vessel whatsoever, due to missing company information in our data. We cannot be certain if these vessels belong to small, large, or government entities and do not apportion these 248 vessels to one type of entity or another.

As with the U.S. flag SOLAS fleet, annual cost following installation of an AIS will have little impact on annual revenues—a less-than-1-percent impact on annual revenue for most small businesses. The first-year cost of the interim rule, therefore, will again have the greatest impact on average annual revenue. To estimate the revenue impact on small businesses in the first year, the cost per vessel for an AIS, $9,330, multiplied by the number of vessels owned by each company, then divided by the average annual revenue for each company. Of the 1,491 small businesses that own non-SOLAS vessels in VTS areas, we found revenue for 453 of them (30 percent). As with the assessment for the U.S. flag SOLAS fleet, if we could not find revenue data for a business, we assumed the business was small. For the remaining 1,038 small entities without revenue data, we expanded the revenue impacts for the known 453 companies. The results of the assessment for the non-SOLAS fleet in VTS areas are presented in Table 6.

Table 6.—Effect of First-Year Cost on Average Annual Revenue for Small Entities Owning Non-SOLAS Vessels in VTS Areas
Percent of annual revenue that is first-year AIS cost | Number of entities with known annual revenues | Percent of entities with known annual revenues | Expanded number of entities with unknown annual revenues | Total small entities per impact category
0-3% | 334 | 74 | 767 | 1,101
> 3-5% | 47 | 10 | 104 | 151
> 5-10% | 34 | 8 | 83 | 117
> 10-20% | 20 | 4 | 42 | 62
> 20-30% | 11 | 2 | 21 | 32
> 30% | 7 | 2 | 21 | 28
Total | 453 | 100 | 1,038 | 1,491
Detail may not calculate to total due to independent rounding.

As shown, the interim rule will have a less-than-3-percent impact on 74 percent of small businesses in the first year it is in effect. Approximately 92 percent have a less-than-10-percent impact. We conclude, therefore, that the interim rule may have a significant economic impact on a substantial number of small entities.

Assistance for Small Entities

Under section 213(a) of the Small Business Regulatory Enforcement Fairness Act of 1996 (Public Law 104-121), we want to assist small entities in understanding this rule so that they can better evaluate its effects on them and participate in the rulemaking. If the rule would affect your small business, organization, or governmental jurisdiction and you have questions concerning its provisions or options for compliance, please consult Mr. Jorge Arroyo (G-MWV) by telephone 202-267-1103, toll-free telephone 1-800-842-8740 ext. 7-1103, or electronic mail msregs@comdt.uscg.mil.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520). The reports required by this rule are considered to be operational communications, transitory in nature, and, therefore, do not constitute the collection of information under the Paperwork Reduction Act.

Federalism

A rule has implications for federalism under Executive Order 13132, Federalism, if it has a substantial direct effect on State or local governments and would either preempt State law or impose a substantial direct cost of compliance on them. It is well settled that States may not regulate in categories reserved for regulation by the Coast Guard. It is also well settled, now, that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. In addition, under the authority of Title I of the Ports and Waterways Safety Act, 33 U.S.C. 1221-1232 (specifically 33 U.S.C. 1223) and the MTSA our regulation will preempt any State action on the subject of automatic identification system carriage requirements. (See the decision of the Supreme Court in the consolidated cases of United States v. Locke and Intertanko v. Locke, 529 U.S. 89, 120 S.Ct. 1135 (March 6, 2000).) Our AIS carriage requirement rule falls into the category of equipping of vessels. Because the States may not regulate within this category, preemption under Executive Order 13132 is not an issue.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100 million or more in any one year. We do discuss the effects of this interim rule elsewhere in this preamble. However, this interim rule is exempted from assessing the effects of the regulatory action as required by the Act because it is necessary for the national security of the United States (2 U.S.C. 1503(5)).

Taking of Private Property

This interim rule will not effect a taking of private property or otherwise have taking implications under Executive Order 12630, Governmental Actions and Interference with Constitutionally Protected Property Rights.

Civil Justice Reform

This interim rule meets applicable standards in sections 3(a) and 3(b)(2) of Executive Order 12988, Civil Justice Reform, to minimize litigation, eliminate ambiguity, and reduce burden.

Protection of Children

The Coast Guard has analyzed this interim rule under Executive Order 13045, Protection of Children from Environmental Health Risks and Safety Risks. This interim rule is not an economically significant rule, and does not concern an environmental risk to health or risk to safety that may disproportionately affect children.

Indian Tribal Governments

This interim rule does not have tribal implications under Executive Order 13175, Consultation and Coordination with Indian Tribal Governments, because it would not have a substantial direct effect on one or more Indian tribes, on the relationship between the Federal Government and Indian tribes, or on the distribution of power and responsibilities between the Federal Government and Indian tribes. We invite your comments, however, on how this interim rule might impact tribal governments, even if that impact may not constitute a “tribal implication” under the Order.

Energy Effects

We have analyzed this interim rule under Executive Order 13211, Actions Concerning Regulations That Significantly Affect Energy Supply, Distribution, or Use. We have determined that it is not a “significant energy action” under that order because it is not an economically significant regulatory action and is therefore not likely to have a significant adverse effect on the supply, distribution, or use of energy even though it is a “significant regulatory action” under Executive Order 12866. It has not been designated by the Administrator of the Office of Information and Regulatory Affairs as a significant energy action. Therefore, it does not require a Statement of Energy Effects under Executive Order 13211.

Trade Impact Assessment

The Trade Agreement Act of 1979 (19 U.S.C. 2501-2582) prohibits Federal agencies from engaging in any standards or related activities that create unnecessary obstacles to the foreign commerce of the United States. Legitimate domestic objectives, such as safety and security, are not considered unnecessary obstacles. The Act also requires consideration of international standards and, where appropriate, that they be the basis for U.S. standards. We have assessed the potential effect of this interim rule and have determined that it is not likely to create substantial obstacles to the foreign commerce of the United States because we are implementing an international standards (IEC/IMO/ITU). In addition, because these regulations are being put in place in order to further a legitimate domestic objective, namely to increase the safety of vessels and the security of the United States, any obstacles created by the regulation are not considered unnecessary obstacles.

Environment

We have considered the environmental impact of this rule and concluded that under figure 2-1, paragraphs (34)(d), (34)(e), and (34)(i) of Commandant Instruction M16475.lD, this rule is categorically excluded from further environmental documentation. This interim rule concerns vessel equipment requirements that will contribute to higher levels of marine safety and maritime domain awareness for U.S. ports and waterways. A “Categorical Exclusion Determination” is available in the docket where indicated under ADDRESSES or SUPPLEMENTARY INFORMATION.

This rulemaking will not significantly impact the coastal zone. Further, the rulemaking and the execution of this rule will be done in conjunction with appropriate State coastal authorities. The Coast Guard will, therefore, comply with the requirements of the Coastal Zone Management Act while furthering its intent to protect the coastal zone.

List of Subjects

33 CFR Part 26

Communications equipment, Marine safety, Radiotelephone, Vessels.

33 CFR Part 161

Harbors, Navigation (water), Reporting and recordkeeping requirements, Vessels, Waterways.

33 CFR Part 164

Incorporation by reference, Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 26, 161, 164, and 165 as follows:

PART 26—VESSEL BRIDGE-TO-BRIDGE RADIOTELEPHONE REGULATIONS

1. Revise the authority for part 26 to read as follows:

Authority: 14 U.S.C. 2; 33 U.S.C. 1201-1208; Pub. L. 107-295, 116 Stat. 2064; Department of Homeland Security Delegation No. 0170; Rule 1, International Regulations for the Prevention of Collisions at Sea.

2. In § 26.03, in paragraph (f), remove the words, “Table 26.03(f) (VTS Call Signs, Designated Frequencies, and Monitoring Areas).”, and add, in their place, the words “Table 161.12(c) (VTS and VMRS Centers, Call Signs/MMSI, Designated Frequencies, and Monitoring Areas).”, and delete Table 26.03(f).

PART 161—VESSEL TRAFFIC MANAGEMENT

3. Revise the authority for part 161 to read as follows:

Authority: 33 U.S.C. 1223, 1231; 46 U.S.C. 70114, 70117; Pub. L. 107-295, 116 Stat. 2064; Department of Homeland Security Delegation No. 0170.

4. In § 161.2—

a. Revise the definitions for “Vessel Movement Reporting System (VMRS)”, “Vessel Movement Reporting System (VMRS) User”; and

b. Add the definitions for “navigable waters” and “Vessel Movement Center (VMC)”, in alphabetical order, to read as follows:

§ 161.2 Definitions.

* * * * *

Navigable waters means all navigable waters of the United States including the territorial sea of the United States, extending to 12 nautical miles from United States baselines, as described in Presidential Proclamation No. 5928 of December 27, 1988.

* * * * *

Vessel Movement Center (VMC) means the shore-based facility that operates the vessel tracking system for a Vessel Movement Reporting System (VMRS) area or sector within such an area. The VMC does not necessarily have the capability or qualified personnel to interact with marine traffic, nor does it necessarily respond to traffic situations developing in the area, as does a Vessel Traffic Service (VTS).

Vessel Movement Reporting System (VMRS) means a mandatory reporting system used to monitor and track vessel movements. This is accomplished by a vessel providing information under established procedures as set forth in this part in the areas defined in Table 161.12(c) (VTS and VMRS Centers, Call Signs/MMSI, Designated Frequencies, and Monitoring Areas).

Vessel Movement Reporting System (VMRS) User means a vessel, or an owner, operator, charterer, Master, or person directing the movement of a vessel that is required to participate in a VMRS.

* * * * *

5. In § 161.12—

a. Redesignate paragraphs (a)(1), (b), Table 161.12(b), and paragraph (c) as (b), (c), Table 161.12(c), and (d), respectively;

b. Revise newly designated paragraph (c) and newly designated Table 161.12(c) to read as follows:

§ 161.12 Vessel operating requirements.

* * * * *

(c) When not exchanging voice communications, a VTS User must maintain a listening watch as required by § 26.04(e) of this chapter on the VTS frequency designated in Table 161.12(c) (VTS and VMRS Centers, Call Signs/MMSI, Designated Frequencies, and Monitoring Areas). In addition, the VTS User must respond promptly when hailed and communicate in the English language.

Note to § 161.12(c): As stated in 47 CFR 80.148(b), a very high frequency watch on Channel 16 (156.800 MHz) is not required on vessels subject to the Vessel Bridge-to-Bridge Radiotelephone Act and participating in a Vessel Traffic Service (VTS) system when the watch is maintained on both the vessel bridge-to-bridge frequency and a designated VTS frequency.

Table 161.12(c).—VTS and VMRS Centers, Call Signs/MMSI, Designated Frequencies, and Monitoring Areas
Center MMSI ¹ Call Sign | Designated frequency (Channel designation)—purpose ² | Monitoring area 3 4
Berwick Bay 003669950—
Berwick Traffic | 156.550 MHz (Ch. 11) | The waters south of 29°45′ N., west of 91°10′ W., north of 29°37′ N., and east of 91°18′ W.
Houston-Galveston—003669954 |  | The navigable waters north of 29° N., west of 94°20′ W., south of 29°49′ N., and east of 95°20′ W.
Houston Traffic | 156.550 MHz (Ch. 11) 156.250 Mhz (Ch. 5A) —For Sailing Plans only | The navigable waters north of a line extending due west from the southern most end of Exxon Dock #1 (20°43.37′ N., 95°01.27′ W.).
Houston Traffic | 156.600 MHz (Ch. 12) 156.250 Mhz (Ch. 5A) —For Sailing Plans only | The navigable waters south of a line extending due west from the southern most end of Exxon Dock #1 (29°43.37′ N., 95°01.27′ W.)
Los Angeles/Long Beach: MMSI/To be determined |  |
San Pedro Traffic | 156.700 MHz (Ch.14) | Vessel Movement Reporting System Area: The navigable waters within a 25 nautical mile radius of Point Fermin Light (33°42.3′ N., 118°17.6′ W.).
Louisville: Not applicable |  |
Louisville Traffic | 156.650 MHz (Ch. 13) | The waters of the Ohio River between McAlpine Locks (Mile 606) and Twelve Mile Island (Mile 593), only when the McAlpine upper pool gauge is at approximately 13.0 feet or above.
Lower Mississippi River ⁵—0036699952 |  |
New Orleans Traffic | 156.700 MHz (Ch.14) | The navigable waters of the Lower Mississippi River below 30°38.7′ N., 91°17.5′ W. (Port Hudson Light at 255 miles Above Head of Passes (AHP)), the Southwest Pass, and, within a 12 nautical miles radius around 28°54.3′ N., 89°25.7′ W. (Southwest Pass Entrance Light at 19.9 miles Below Head of Passes).
New Orleans Traffic | 156.600 MHz (Ch.12) | New Orleans Sector. The navigable waters of the Lower Mississippi River bounded on the north by a line drawn perpendicularly at 29°56.4′ N., 90°08.36′ W. and on the south by a line drawn perpendicularly at 29°56.24′ N., 89°59.86′ W. (88 and 106 miles AHP).
New York—003669951
New York Traffic | 156.550 MHz (Ch. 11) —For Sailing Plans only 156.600 MHz (Ch. 12) —For vessels at anchor | The area consists of the navigable waters of the Lower New York Bay bounded on the east by a line drawn from Norton Point to Breezy Point; on the south by a line connecting the entrance buoys at the Ambrose Channel, Swash Channel, and Sandy Hook Channel to Sandy Hook Point; and on the southeast including the waters of Sandy Hook Bay south to a line drawn at latitude 40 25′ N; then west in the Raritan Bay to the Raritan River Railroad Bridge, then north into waters of the Arthur Kill and Newark Bay to the Lehigh Valley Draw Bridge at latitude 40 41.9N; and then east including the waters of the Kill Van Kull and the Upper New York Bay north to a line drawn east-west from the Holland Tunnel ventilator shaft at latitude 40 43.7′ N, longitude 74 01.6′ W, in the Hudson River; and then continuing east including the waters of the East River to the Throgs Neck Bridge, excluding the Harlem River.
New York Traffic | 156.700 MHz (Ch. 14) | The navigable waters of the Lower New York Bay west of a line drawn from Norton Point to Breezy Point; and north of a line connecting the entrance buoys of Ambrose Channel, Swash Channel, and Sandy Hook Channel, to Sandy Hook Point; on the southeast including the waters of the Sandy Hook Bay south to a line drawn at latitude 40 25′ N; then west into the waters of Raritan Bay East Reach to a line drawn from Great Kills Light south through Raritan Bay East Reach LGB #14 to Comfort PT, NJ; then north including the waters of the Upper New York Bay south of 40 42.40′ N (Brooklyn Bridge) and 40 43.70′ N (Holland Tunnel Ventilator Shaft); west through the KVK into the Arthur Kill north of 40 38.25′ N (Arthur Kill Railroad Bridge); then north into the waters of the Newark Bay, south of 40 41.95′ N (Lehigh Valley Draw Bridge).
New York Traffic | 156.600 MHz (Ch. 12) | The navigable waters of the Raritan Bay south to a line drawn at latitude 40 26′ N; then west of a line drawn from Great Kills Light south through the Raritan Bay East Reach LGB #14 to Point Comfort, NJ; then west to the Raritan River Railroad Bridge; and north including the waters of the Arthur Kill to 40 28.25′ N (Arthur Kill Railroad Bridge); including the waters of the East River north of 40 42.40′ N (Brooklyn Bridge) to the Throgs Neck Bridge, excluding the Harlem River.
Port Arthur ⁵—003669955 |  |
Sabine Traffic | To be determined | The navigable waters south of 30°10′ N., east of 94°20′ W., west of 93°22′ W, and, north of 29° 10′ N.
Prince William Sound—003669958 |  |
Valdez Traffic | 156.650 MHz (Ch. 13) | The navigable waters south of 61°05′ N., east of 147°20′ W., north of 60° N., and west of 146°30′ W.; and, all navigable waters in Port Valdez.
Puget Sound ⁶ |  |
Seattle Traffic—003669957 | 156.700 MHz (Ch. 14) | The waters of Puget Sound, Hood Canal and adjacent waters south of a line connecting Marrowstone Point and Lagoon Point in Admiralty Inlet and south of a line drawn due east from the southernmost tip of Possession Point on Whidbey Island to the shoreline.
Seattle Traffic—003669957 | 156.250 MHz (Ch. 5A) | The waters of the Strait of Juan de Fuca east of 124°40′ W. excluding the waters in the central portion of the Strait of Juan de Fuca north and east of Race Rocks; the navigable waters of the Strait of Georgia east of 122°52′ W.; the San Juan Island Archipelago, Rosario Strait, Bellingham Bay; Admiralty Inlet north of a line connecting Marrowstone Point and Lagoon Point and all waters east of Whidbey Island North of a line drawn due east from the southernmost tip of Possession Point on Whidbey Island to the shoreline.
Tofino Traffic—003160012 | 156.725 MHz (Ch. 74) | The waters west of 124°40′ W. within 50 nautical miles of the coast of Vancouver Island including the waters north of 48° N., and east of 127° W.
Victoria Traffi—003160010 | 156.550 MHz (Ch. 11) | The waters of the Strait of Georgia west of 122° 52′ W., the navigable waters of the central Strait of Juan de Fuca north and east of Race Rocks, including the Gulf Island Archipelago, Boundary Pass and Haro Strait.
San Francisco—003669956 |  |
San Francisco Traffic | 156.700 MHz (Ch. 14) | The navigable waters of the San Francisco Offshore Precautionary Area, the navigable waters shoreward of the San Francisco Offshore Precautionary Area east of 122°42.0′ W. and north of 37°40.0′ N. extending eastward through the Golden Gate, and the navigable waters of San Francisco Bay and as far east as the port of Stockton on the San Joaquin River, as far north as the port of Sacramento on the Sacramento River.
San Francisco Traffic | 156.600 MHz (Ch. 12) | The navigable waters within a 38 nautical mile radius of Mount Tamalpais (37°55.8′ N., 122°34.6′ W.) west of 122°42.0′ W. and south of 37°40.0′ N and excluding the San Francisco Offshore Precautionary Area.
St. Marys River—003669953
Soo Traffic | 156.600 MHz (Ch. 12) | The waters of the St. Marys River between 45°57′ N. (De Tour Reef Light) and 46°38.7′ N. (lle Parisienne Light), except the St. Marys Falls Canal and those navigable waters east of a line from 46°04.16′ N. and 46°01.57′ N. (La Pointe to Sims Point in Potagannissing Bay and Worsley Bay).
Notes:
¹ Maritime Mobile Service Identifier (MMSI) is a unique nine-digit number assigned that identifies ship stations, ship earth stations, coast stations, coast earth stations, and group calls for use by a digital selective calling (DSC) radio, an INMARSAT ship earth station or AIS. AIS requirements are set forth in §§ 161.21 and 164.46 of this subchapter.
² In the event of a communication failure, difficulties or other safety factors, the Center may direct or permit a user to monitor and report on any other designated monitoring frequency or the bridge-to-bridge navigational frequency, 156.650 MHz (Channel 13) or 156.375 MHz (Ch. 67), to the extent that doing so provides a level of safety beyond that provided by other means. The bridge-to-bridge navigational frequency, 156.650 MHz (Ch. 13), is used in certain monitoring areas where the level of reporting does not warrant a designated frequency.
³ All geographic coordinates (latitude and longitude) are expressed in North American Datum of 1983 (NAD 83).
⁴ Some monitoring areas extend beyond navigable waters. Although not required, users are strongly encouraged to maintain a listening watch on the designated monitoring frequency in these areas. Otherwise, they are required to maintain watch as stated in 47 CFR 80.148.
⁵ Until rules regarding VTS Lower Mississippi River and VTS Port Arthur are published, vessels are exempted of all VTS and VMRS requirements set forth in 33 CFR part 161, except those set forth in §§ 161.21 and 164.46 of this subchapter.
⁶ A Cooperative Vessel Traffic Service was established by the United States and Canada within adjoining waters. The appropriate Center administers the rules issued by both nations; however, enforces only its own set of rules within its jurisdiction. Note, the bridge-to-bridge navigational frequency, 156.650 MHz (Ch. 13), is not so designated in Canadian waters, therefore users are encouraged and permitted to make passing arrangements on the designated monitoring frequencies.

* * * * *

§ 161.15 [Amended]

6. In § 161.15—

a. In paragraph (a), remove the word “manage” and add, in its place, the word “monitor”;

b. In paragraph (a), following the words “within a VTS”, add the words “or VMRS”;

c. In paragraph (a) following the words “directed by the”, remove the word “VTS” and add, in its place, the word “Center”;

d. In paragraph (b), remove the word “four” and add, in its place, the word “three”; and

e. In paragraph (b), following the word “position”, remove the words “sailing plan deviation”.

7. In § 161.16, revise the introductory text to read as follows:

§ 161.16 Applicability.

Unless otherwise stated, the provisions of this subpart apply to the following vessels and VMRS Users:

* * * * *

8. Revise § 161.17 to read as follows:

§ 161.17 Definitions.

As used in this subpart:

Center means a Vessel Traffic Center or Vessel Movement Center.

Published means available in a widely-distributed and publicly available medium (e.g., VTS User's Manual, ferry schedule, Notice to Mariners).

§ 161.18 [Amended]

9. In § 161.18—

a. In paragraph (a), remove the word “VTS” and add, in its place “Center”;

b. In paragraphs (b) and (c), remove the words “Table 161.12(b) (VTS Call Signs, Designated Frequencies, and Monitoring Areas)” and add, in their place “Table 161.12(c) (VTS and VMRS Centers, Call Signs/MMSI, Designated Frequencies, and Monitoring Areas)”;

c. Redesignate paragraph (d) as paragraph (e); and

d. Add new paragraph (d) to read as follows:

§ 161.18 Reporting requirements.

* * * * *

(d) A vessel must report:

(1) Any significant deviation from its Sailing Plan, as defined in § 161.19, or from previously reported information; or

(2) Any intention to deviate from a VTS issued measure or vessel traffic routing system.

* * * * *

§ 161.20 [Amended]

10. In § 161.20—

a. In paragraph (a), remove the word “VTS” and add, in its place, the word “VMRS”;

b. In paragraph (c), remove the word “VTC” and add, in its place, the word “Center”; and

c. Remove the note at the end of the section.

11. Revise § 161.21 to read as follows:

§ 161.21 Automated reporting.

(a) Unless otherwise directed, vessels equipped with an Automatic Identification System (AIS) are required to make continuous, all stations, AIS broadcasts, in lieu of voice Position Reports, to those Centers denoted in Table 161.12(c) of this part.

(b) Should an AIS become non-operational, while or prior to navigating a VMRS area, it should be restored to operating condition as soon as possible, and, until restored a vessel must:

(1) Notify the Center;

(2) Make voice radio Position Reports at designated reporting points as required by § 161.20(b) of this part; and

(3) Make any other reports as directed by the Center.

§ 161.23 [Amended]

12. In § 161.23, in paragraph (b)(1), remove the word “VTS” and, in its place, add the word “VMRS”; remove paragraph (c); and remove the note at the end of the section.

Subpart C-Vessel Traffic Service and Vessel Movement Reporting System Areas and Reporting Points

13. Revise the heading for subpart C to read as set forth immediately above.

PART 164—NAVIGATION SAFETY REGULATIONS

14. Revise the authority citation for part 164 to read as follows:

Authority: 33 U.S.C. 1223, 1231; 46 U.S.C. 2103, 3703, 70114, 70117; Pub. L. 107-295, 116 Stat. 2064; Department of Homeland Security Delegation No. 0170. Sec. 164.13 also issued under 46 U.S.C. 8502. Sec. 164.61 also issued under 46 U.S.C. 6101.

15. In § 164.01—

a. In paragraph (a) following the words “except as provided in”, remove the words “paragraph (c)” and, in their place, add the words “paragraphs (c) and (d)”;

b. In paragraph (c) remove the words “and 164.33”, and, in their place, add the words “164.33, and 164.46”; and

c. Add a new paragraph (d) to read as follows:

§ 164.01 Applicability.

* * * * *

(d) Provisions of § 164.46 apply to some self-propelled vessels of less than 1600 gross tonnage.

§ 164.02 [Amended]

16. In § 164.02, at the beginning of paragraph (a), remove the words “This part”, and, add in their place, the words “Except as provided in § 164.46(a)(2) of this part”.

17. In § 164.03(b), add the entry for “International Electrotechnical Commission”; under the entry for “International Maritime Organization (IMO),” add entries for Resolution MSC.74(69), SN/Circ.277, SOLAS 2000 Amendments, Conference resolution 1; and under the entry for “International Telecommunications Union Radiocommunication Bureau (ITU-R)”, add an entry for ITU-R Recommendation M.1371-1 to read as follows:

§ 164.03 Incorporation of reference.

* * * * *

(b) * * *

International Electrotechnical Commission (IEC)

3, rue de Varemb, Geneva, Switzerland.

IEC 61993-2, Maritime navigation and radiocommunication equipment and systems—Automatic identification systems (AIS)—part 2: Class A shipborne equipment of the universal automatic identification system (AIS)—Operational and performance requirements, methods of test and required test results First edition, 2001-12 | 164.46

International Maritime Organization (IMO)

Publication Section, 4 Albert Embankment, London SE1 7SR, United Kingdom.

Resolution MSC.74(69), Annex 3, Recommendation on Performance Standards for a Universal Shipborne Automatic Identification System (AIS), adopted May 12, 1998 | 164.46
SN/Circ.277, Guidelines for the Installation of a Shipborne Automatic Identification System (AIS), dated January 6, 2003 | 164.46
SOLAS, International Convention for Safety of Life at Sea, 1974, and 1988 Protocol relating thereto, 2000 Amendments, effective January and July 2002, (SOLAS 2000 Amendments) | 164.46
Conference resolution 1, Adoption of amendments to the Annex to the International Convention for the Safety of Life at Sea, 1974, and amendments to Chapter V of SOLAS 1974, adopted December 12, 2002 | 164.46

International Telecommunication Union Radiocommunication Bureau (ITU-R)

Place de Nations, CH-1211 Geneva 20 Switzerland.

ITU-R Recommendation M.1371-1, Technical characteristics for a universal shipborne automatic identification system using time division multiple access in the VHF maritime mobile band, 1998-2001 | 164.46

§ 164.43 [Amended]

18. In § 164.43—

a. Revise the section heading to read “Automatic Identification System Shipborne Equipment—Prince William Sound” ; and

b. In paragraph (a), remove the word “Each”, and add, in its place, the words “Until July 1, 2004, each”; and add the words “under § 165.1704 of this subchapter” immediately after the words “Vessel Traffic Service (VTS)”.

19. Add new § 164.46 to read as follows:

§ 164.46 Automatic Identification System (AIS).

(a) The following vessels must have an installed, operational AIS that complies with the IMO Resolution MSC.74(69), ITU-R Recommendation M.1371-1, and IEC 61993-2, and that is installed using IMO SN/Circ.277 (Incorporated by reference, see § 164.03) as of the date specified. “Length” refers to “registered length” as defined in 46 CFR, part 69.

(1) Self-propelled vessels of 65 feet or more in length engaged in commercial service and on an international voyage, not later than December 31, 2004.

(2) Notwithstanding paragraph (a)(1) of this section, the following vessels subject to the International Convention for Safety at Life at Sea, 1974, (SOLAS) as amended, that are on an international voyage must also comply with SOLAS, chapter V, as amended by SOLAS 2000 Amendments and Conference resolution 1 (Incorporated by reference, see § 164.03):

(i) Passenger vessels, of 150 gross tonnage or more, not later than July 1, 2003;

(ii) Tankers, regardless of tonnage, not later than the first safety survey for safety equipment on or after July 1, 2003;

(iii) Vessels, other than passenger vessels or tankers, of 50,000 gross tonnage or more, not later than July 1, 2004; and

(iv) Vessels, other than passenger vessels or tankers, of 300 gross tonnage or more but less than 50,000 gross tonnage, not later than the first safety survey for safety equipment on or after July 1, 2004, but no later than December 31, 2004.

(b) Notwithstanding paragraphs (a)(1) and (a)(2) of this section, the following vessels, transiting an area listed in table 161.12(c) of § 161.12 of this part.

(1) Each self-propelled vessel of 65 feet or more in length, engaged in commercial service;

(2) Each towing vessel of 26 feet or more in length and more than 600 horsepower;

(3) Each vessel of 100 gross tons or more carrying one or more passengers for hire; and

(4) Each passenger vessel certificated to carry 50 or more passengers for hire.

(c) The vessels listed in paragraph (b) of this section must comply according to the following schedule:

(1) For VTS St. Marys River, not later than December 31, 2003;

(2) For VTS Berwick Bay, VMRS Los Angeles/Long Beach, VTS Lower Mississippi River, VTS Port Arthur and VTS Prince William Sound, not later than July 1, 2004; and

(3) For VTS Houston-Galveston, VTS New York, VTS Puget Sound, and VTS San Francisco, not later than December 31, 2004.

(d) The requirements for Vessel Bridge-to-Bridge radiotelephones in §§ 26.04(a) and (c), 26.05, 26.06 and 26.07 of this chapter, also apply to AIS. The term “effective operating condition” used in § 26.06 includes accurate input and upkeep of all AIS data fields, including estimated time of arrival, destination, and number of people on board.

(e) The use of a portable AIS is permissible, only to the extent that electromagnetic interference does not affect the proper function of existing navigation and communication equipment on board, and such that only one AIS unit may be in operation at any one time.

(f) The AIS Pilot Plug, on each vessel over 1,600 gross tons, on international voyage, shall be available for pilot use, easily accessible from the primary conning position of the vessel, and near an AC power receptacle.

PART 165—REGULATED NAVIGATION AREAS AND LIMITED ACCESS AREAS

20. Revise the authority citation for part 165 to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.

§ 165.1704 [Amended]

21. In § 165.1704, at the beginning of paragraph (c)(6) remove the words “Not later than July 1, 1994,”, and, add in their place, the words “Until July 1, 2004,”.

Dated: June 23, 2003.
Thomas H. Collins,
Admiral, Coast Guard, Commandant.

[FR Doc. 03-16191 Filed 6-27-03; 8:45 am]

BILLING CODE 4910-15-P